DEPARTMENT OF HEALTH AND HUMAN SERIVCES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White Comprehensive AIDS Resources Emergency (CARE) Act: CARE Act Data Report (CADR) Form: (OMB No. 0915-0253)—Revision.

The CARE Act Data Report (CADR) form was created in 1999 by HRSA's HIV/AIDS Bureau. It is designed to collect information from grantees and their subcontracted service providers, who are funded under Titles I, II, III, and IV of the Ryan White CARE Act of 1990, as amended by the Ryan White CARE Act Amendments of 1996 and 2000 (codified under Title XXVI of the Public Health Services Act). All Titles of the CARE Act specify HRSA's responsibilities in the administration of grant funds, the allocation of funds, the evaluation of programs for the population served, and the improvement of the quantity and quality of care. Accurate records of the providers receiving CARE Act funding, the services provided, and the clients served continue to be critical to the implementation of the legislation and thus are necessary for HRSA to fulfill its responsibilities. CARE Act grantees are required to report aggregate data to HRSA annually. The CADR form is used by grantees and their subcontracted service providers to report data on seven different areas: service provider information, client information, counseling and testing services, medical services, and other services provided/clients served, demographic information, and the Health Insurance Program. The primary purposes of the CADR are to: (1) Characterize the organizations from which clients receive services; (2) provide information on the number and characteristics of clients who receive CARE Act services; and (3) enable HAB to describe the type and amount of services a client receives. In addition to meeting the goal of accountability to the Congress, clients, advocacy groups, and the general public, information collected on the CADR is critical for HRSA, State, and local grantees, and individual providers to assess the status of existing HIV-related service delivery systems.

The response burden for grantees is estimated as:

Title under which grantee is funded | Number of grantee respondents | Responses per grantee | Hours to coordinate receipt of data reports | Total hour burden
Title I Only | 51 | 1 | 40 | 2,040
Title II Only | 59 | 1 | 40 | 2,360
Title III Only | 365 | 1 | 20 | 7,300
Title IV Only | 90 | 1 | 20 | 1,800
Subtotal | 565 |  |  | 13,500

The response burden for service providers is estimated as:

Title under which grantee is funded | Number of respondents | Responses per provider | Hours per response | Total hour burden
Title I Only | 976 | 1 | 26 | 25,376
Title II Only | 857 | 1 | 26 | 22,282
Title III Only | 166 | 1 | 44 | 7,304
Title IV Only | 122 | 1 | 42 | 5,124
Funded under more than one title | 681 | 1 | 50 | 34,050
Subtotal | 2,802 |  |  | 94,136
Total for providers and grantees | 3,367 |  |  | 107,636

Send comments to Susan G. Queen, Ph.D., HRSA Reports Clearance Officer, Room 14-45, Parklawn Building, 5600 Fishers Lane, Rockville, MD 20857. Written comments should be received within 60 days of this notice.

Dated: May 20, 2004.
Tina M. Cheatham,
Director, Division of Policy Review and Coordination.

[FR Doc. 04-12012 Filed 5-26-04; 8:45 am]

BILLING CODE 4165-15-P